FEDERAL COMMUNICATIONS COMMISSION

47 CFR Part 73

[DA 06-343; MB Docket No. 03-12; RM-10627]

Radio Broadcasting Services; Charles Town, WV and Stephens City, VA

AGENCY: Federal Communications Commission.

ACTION: Final rule; denial of petition for reconsideration.

SUMMARY: In response to a Petition for Reconsideration, this Memorandum Opinion and Order affirms the Report and Order in this proceeding, 68 FR 62540 (November 5, 2003). The Report and Order realloted Channel 252A, Station WKSI-FM, Charles Town, West Virginia to Stephens City, Virginia, and modified Station WKSI-FM's license to specify Stephens City as its community of license.

DATES: Effective April 3, 2006.

ADDRESSES: Federal Communications Commission, 445 Twelfth Street, SW., Washington, DC 20554.

FOR FURTHER INFORMATION CONTACT: R. Barthen Gorman, Media Bureau, (202) 418-2180.

SUPPLEMENTARY INFORMATION: This is a synopsis of the Commission's Memorandum Opinion and Order, MB Docket No. 03-12, adopted February 15, 2006, and released February 17, 2006. The full text of this Commission decision is available for inspection and copying during normal business hours in the FCC's Reference Information Center at Portals II, 445 12th Street, SW., Room CY-A257, Washington, DC, 20554. The document may also be purchased from the Commission's duplicating contractor, Best Copy and Printing, Inc., Portals II, 445 12th Street, SW., Room CY-B402, Washington, DC, 20554, telephone 1-800-378-3160 or http://www.BCPIWEB.com. The Commission will send a copy of this Memorandum Opinion and Order in a report to be sent to Congress and the Government Accountability Office pursuant to the Congressional Review Act, see 5 U.S.C. 801(a)(1)(A).

List of Subjects in 47 CFR Part 73

Radio, Radio broadcasting.

Federal Communications Commission.
John A. Karousos,
Assistant Chief, Audio Division, Media Bureau.

[FR Doc. 06-2329 Filed 3-14-06; 8:45 am]

BILLING CODE 6712-01-P